NATIONAL AERONAUTICS AND SPACE ADMINISTRATION

Notice of Information Collection

AGENCY: National Aeronautics and Space Administration (NASA).

Notice: (09-077).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street SW., JF0000, Washington, DC 20546, (202) 358-1351, Lori.Parker-1@nasa.gov.

SUPPLEMENTARY INFORMATION:

I. Abstract

The NASA Office of Education seeks a generic clearance to administer surveys through the Office of Education Performance Measurement (OEPM) system. Data Collection through the OEPM system will be used for reporting on Program Assessment Rating Tool (PART) measures, Program Analysis and Evaluation (PA&E), and answering Congressional inquiries about NASA education programs.

II. Method of Collection

Data collected will be primarily electronic. Teachers, students, and interested members of public who have attended or participated in NASA funded education events and activities will be sent an email with a link that, when clicked, will route the participant to the relevant survey.

At events where computers might not be available, a paper version of a select number of surveys will be available. Surveys will be scanned into the OEPM system through a fax machine or scanner.

III. Data

Title: NASA Office of Education Generic Collection.

OMB Number: 2700-XXXX.

Type of review: New Collection.

Affected Public: Individuals or households.

Estimated Number of Respondents: 400,000.

Estimated Number of Responses per Respondent: 1.

Estimated Time per Response: .25-.50 hour.

Estimated Total Annual Burden Hours: 103,458 hours.

Estimated Annual Cost for Respondents: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA Clearance Officer.

[FR Doc. E9-21270 Filed 9-2-09; 8:45 am]

BILLING CODE 7510-13-P